DEPARTMENT OF HOMELAND SECURITY

Coast Guard

33 CFR Part 165

[Docket No. USCG-2022-0264]

Safety Zones; Recurring Safety Zones in Captain of the Port Sault Sainte Marie Zone for Events Beginning in July 2022

AGENCY: Coast Guard, Department of Homeland Security (DHS).

ACTION: Notification of enforcement of regulation.

SUMMARY: The Coast Guard will enforce established safety zones for maritime events in Sault Sainte Marie area listed in Table 1 of this document starting in July 2022. This action is necessary to provide for the safety of life on navigable waterways. During the enforcement periods, vessels must stay out of the established safety zone and may only enter with permission from the designated representative of the Captain of the Port Sault Sainte Marie.

DATES: The regulations in 33 CFR 165.918 will be enforced for the safety zones identified in Table 1 of the SUPPLEMENTARY INFORMATION section below for the dates and times specified.

FOR FURTHER INFORMATION CONTACT: If you have questions about this notification of enforcement, call or email Waterways Management division, LT Deaven Palenzuela, Coast Guard Sector Sault Sainte Marie, U.S. Coast Guard; telephone 906-635-3223, email ssmprevention@uscg.mil.

SUPPLEMENTARY INFORMATION: The Coast Guard will enforce the safety zones defined in 33 CFR 165.918 as per the time, dates, and locations in Table 1.

Table 1
[Datum NAD 1983]
Event | Location | Event date
(5) National Cherry Festival Airshow Safety Zone; Traverse City, MI | All U.S. navigable waters of the West Arm of Grand Traverse Bay within a box bounded by the following coordinates: 44°46′51.6″ N, 085°38′15.6″ W, 44°46′23.4″ N, 085°38′22.8″ W, 44°46′30″ N, 085°35′42″ W, and 44°46′2.34″ N, 085°35′50.4″ W | Practice date: June 30, 2022, and July 1, 2022, from 12 noon through 4 p.m. Full Airshow dates: July 2-3, 2022, from 12 noon through 4 p.m.
(7) Canada Day Celebration Fireworks; Sault Sainte Marie, MI | All U.S. navigable waters of the St. Mary's River within an approximate 1400-foot radius from the fireworks launch site, centered approximately 160 yards north of the U.S. Army Corp of Engineers Soo Locks Northeast Pier, at position 46°30′20.40″ N, 084°20′17.64″ W | On July 1, 2022, from 9 p.m. through 12:01 a.m.
(8) Marquette Fourth of July Celebration Fireworks; Marquette, MI | All U.S. navigable waters of Marquette Harbor within an approximate 1200-foot radius of the fireworks launch site, centered in position 46°32′23.0″ N, 087°23′13.1″ W | On July 4, 2022, from 10 p.m. through 11:30 p.m.
(9) Munising Fourth of July Celebration Fireworks; Munising, MI | All U.S. navigable waters of South Bay within an approximate 800-foot radius from the fireworks launch site at the end of the Munising City Dock, centered in position: 46°24′50.08″ N, 086°39′08.52″ W | On July 4, 2022, from 7 p.m. through 11:30 p.m.
(10) Sault Sainte Marie Fourth of July Celebration Fireworks; Sault Sainte Marie, MI | All U.S. navigable waters of the St. Mary's River within an approximate 1000-foot radius around the eastern portion of the U.S. Army Corp of Engineers Soo Locks Northeast Pier, centered in position: 46°30′19.66″ N, 084°20′31.61″ W | On July 4, 2022, from 9 p.m. through 12:01 a.m. Rain date: July 5, 2022 from 9 p.m. through 12: 01 a.m.
(11) Mackinac Island Fourth of July Celebration Fireworks; Mackinac Island, MI | All U.S. navigable waters of Lake Huron within an approximate 750-foot radius of the fireworks launch site, centered in position 45°50′34.92″ N, 084°37′38.16″ W | On July 4, 2022, from 9 p.m. through 12:01 a.m.
(12) Harbor Springs Fourth of July Celebration Fireworks; Harbor Springs, MI | All U.S. navigable waters of Lake Michigan and Harbor Springs Harbor within the arc of a circle with an approximate 1200-foot radius from the fireworks launch site located on a barge in position 45°25′30″ N, 084°59′06″ W | On July 4, 2022, from 9:15 p.m. through 11:45 p.m.
(13) Bay Harbor Yacht Club Fourth of July Celebration Fireworks; Petoskey, MI | All U.S. navigable waters of Lake Michigan and Bay Harbor Lake within the arc of a circle with an approximate 750-foot radius from the fireworks launch site located on a barge in position 45°21′50″ N, 085°01′37″ W | On July 3, 2022, from 10:15 p.m. through 10:45 p.m.
(14) Petoskey Fourth of July Celebration Fireworks; Petoskey, MI | All U.S. navigable waters of Lake Michigan and Petoskey Harbor, in the vicinity of Bay Front Park, within the arc of a circle with an approximate 1200-foot radius from the fireworks launch site located in position 45°22′40″ N, 084°57′30″ W | On July 4, 2022, from 9 p.m. through 12:01 a.m.
(15) Boyne City Fourth of July Celebration Fireworks; Boyne City, MI | All U.S. navigable waters of Lake Charlevoix, in the vicinity of Veterans Park, within the arc of a circle with an approximate 1400-foot radius from the fireworks launch site located in position 45°13′30″ N, 085°01′40″ W | On July 4, 2022, from 6 p.m. through 11 p.m.
(16) Alpena Fourth of July Celebration Fireworks; Alpena, MI | All U.S. navigable waters of Lake Huron within an approximate 1000-foot radius of the fireworks launch site located near the end of Mason Street, South of State Avenue, at position 45°02′42″ N, 083°26′48″ W | On July 4, 2022, from 9 p.m. through 11 p.m.
(17) Traverse City Fourth of July Celebration Fireworks; Traverse City, MI | All U.S. navigable waters of the West Arm of Grand Traverse Bay within the arc of a circle with an approximate 1200-foot radius from the fireworks launch site located on a barge in position 44°46′12″ N, 085°37′06″ W | On July 4, 2022, from 9 p.m. through 11:30 p.m. Rain date: July 5, 2022 from 9 p.m. through 11:30 p.m.
(18) Charlevoix Venetian Festival Friday Night Fireworks; Charlevoix, MI | All U.S. navigable waters of Lake Charlevoix, in the vicinity of Depot Beach, within the arc of a circle with an approximate 1200-foot radius from the fireworks launch site located on a barge in position 45°19′08″ N, 085°14′18″ W | On July 22, 2022, from 9 p.m. through 12:01 a.m.
(19) Charlevoix Venetian Saturday Night Fireworks; Charlevoix, MI | All U.S. navigable waters of Round Lake within the arc of a circle with an approximate 250-foot radius from the fireworks launch site located on a barge in position 45°19′03″ N, 085°15′18″ W | On July 23, 2022, from 9 p.m. through 12:01 a.m.

This action is necessary for the safety of life on navigable waterways during the fireworks displays. The regulations found in 33 CFR 165.918 for safety zones listed in Table 1 within the Captain of the Port Sault Sainte Marie Zone apply for these fireworks displays.

This notification of enforcement is issued under authority of 33 CFR 165.918 and 5 U.S.C. 552(a). In addition to this notification of enforcement in the Federal Register, the Coast Guard will provide the maritime community with advance notification of this enforcement period via Broadcast Notice to Mariners or Local Notice to Mariners. If the Captain of the Port Sault Sainte Marie determines that the safety zone need not be enforced for the full duration stated in this notification, he or she may use a Broadcast Notice to Mariners to grant general permission to enter the respective safety zone.

Dated: June 22, 2022.
A.R. Jones,
Captain, U.S. Coast Guard, Captain of the Port Sault Sainte Marie.

[FR Doc. 2022-13677 Filed 6-27-22; 8:45 am]

BILLING CODE 9110-04-P